ENVIRONMENTAL PROTECTION AGENCY

[EPA-HQ-OPP-2009-1017; FRL-8870-5]

Notice of Receipt of Requests To Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registrations have been cancelled only if such sale, distribution, or use is consistent with the terms as described in the final order.

DATES: Comments must be received on or before June 3, 2011.

ADDRESSES: Submit your comments, identified by docket identification (ID) number EPA-HQ-OPP-2009-1017, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

Submit written withdrawal request by mail to: Pesticide Re-evaluation Division (7508P), Office of Pesticide Programs, Environmental Protection Agency, 1200 Pennsylvania Ave., NW., Washington, DC 20460-0001. Attn: Maia Tatinclaux.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2009-1017. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. If you have any questions regarding the information in this notice, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the agency taking?

This notice announces receipt by the Agency of requests from registrants to cancel 124 pesticide products registered under FIFRA section 3 or 24(c). These registrations are listed in sequence by registration number (or company number and 24(c) number) in Tables 1, 2, and 3 of this unit.

Table 3 contains a list of registrations for which companies paying at one of the maintenance fee caps requested cancellation in the FY 2011 maintenance fee billing cycle. Because maintaining these registrations as active would require no additional fee, the Agency is treating these requests as voluntary cancellations under section 6(f)(1).

Unless the Agency determines that there are substantive comments that warrant further review of the requests or the registrants withdraw their requests, EPA intends to issue an order in the Federal Register canceling all of the affected registrations.

Table 1—Registrations With Pending Requests for Cancellation
Registration No. | Product name | Chemical name
000056-00056 | J.T. Eaton Answer for Mice Feeder Box | Chlorophacinone.
000056-00069 | J.T. Eaton Answer for Mice Feeder Box | Chlorophacinone.
001020-00008 | Oakite Steri-Det | Alkyl* dimethyl benzyl ammonium chloride *(60% C14, 30% C16, 5% C18, 5% C12).
|  | Alkyl* dimethyl ethyl ammonium chloride *(50% C12, 30% C14, 17% C16, 3% C18).
001022-00523 | Cunapsol-2 | Copper naphthenate.
001448-00054 | Nabe-M | Carbamodithioic acid, methyl-monopotassium salt.
|  | Carbamodithioic acid, cyano-disodium salt.
005481-00551 | Ambush 4E Insecticide | Permethrin.
006836-00057 | Barquat 42Z-10 | Alkyl* dimethyl benzyl ammonium chloride *(60% C14, 30% C16, 5% C18, 5% C12).
|  | Alkyl* dimethyl ethylbenzyl ammonium chloride *(68% C12, 32% C14).
006836-00270 | Barquat 42Z-10F | Alkyl* dimethyl benzyl ammonium chloride *(60% C14, 30% C16, 5% C18, 5% C12).
|  | Alkyl* dimethyl ethylbenzyl ammonium chloride *(68% C12, 32% C14).
007792-00005 | Roebic Root Endz | Copper sulfate pentahydrate.
009688-00070 | Chemsico Roach Control System I | Tralomethrin.
009688-00078 | Chemsico Tralomethrin Indoor Fogger | Tralomethrin.
009688-00080 | Chemsico Home Insect Control A | Tralomethrin.
009688-00081 | Chemsico Home Insect Control B | Tralomethrin.
009688-00082 | Chemsico Tralomethrin Flea Killer | Tralomethrin.
009688-00087 | Chemsico Home Insect Control D | Tralomethrin.
009688-00091 | Chemsico Home Insect Control Refill | Tralomethrin.
009688-00098 | Chemsico Home Insect Control E | Tralomethrin.
009688-00101 | Chemsico Home Insect Control E Refill | Tralomethrin.
009688-00113 | Chemsico Tralomethrin Insecticide D | Tralomethrin.
009688-00119 | Green Thumb Home Insect Fogger | Tralomethrin.
009688-00144 | Dethmor 3.75% EC | Tralomethrin.
009688-00147 | Chemsico Indoor Fogger G | Tralomethrin.
009688-00152 | Saga WP Insecticide 228 | Tralomethrin.
009688-00153 | Saga Multi-purpose Home Pest Control Insecticide | Tralomethrin.
009688-00166 | Chemsico Insect Control CP | Tralomethrin.
009688-00167 | Aerosol Insecticide IT-B | Imiprothrin Tralomethrin.
009688-00170 | Chemsico Aerosol Insecticide IT-D | Imiprothrin Tralomethrin.
009688-00171 | Chemsico Aerosol Insecticide IT-C | Imiprothrin Tralomethrin.
009688-00172 | Chemsico Insect Granules Formula T | Tralomethrin.
009688-00185 | Chemsico Tralomethrin Insecticide C | Prallethrin Tralomethrin.
009688-00194 | Chemsico Wasp & Hornet Killer TE | Prallethrin Tralomethrin.
009688-00204 | Chemsico Insecticide Concentrate T | Tralomethrin.
009688-00275 | Chemsico Insecticide RTU OP-M | Pyrethrins.
047000-00139 | Permethrin Dust 0.25% | Permethrin.
047371-00137 | Formulation RTU-6075 | Alkyl* dimethyl benzyl ammonium chloride *(60% C14, 30% C16, 5% C18, 5% C12).
|  | Alkyl* dimethyl ethylbenzyl ammonium chloride *(50% C12, 30% C14, 17% C16, 3% C18)
048273-00023 | Marman Malathion | Malathion.
048273-00026 | Marman Malathion 56 EC | Malathion.
062719-00308 | Vista | Fluroxypyr 1-methylheptyl ester.

Table 2—Requested Cancellations of Registrations Containing Methyl bromide
003377-00009 | Methyl Bromide Technical | Methyl bromide.
005785-00023 | Terr-O-Gas 45 | Chloropicrin Methyl bromide.
008622-00040 | 57-43 Preplant Soil Fumigant | Methyl bromide Chloropicrin.
008622-00044 | 80-20 Preplant Soil Fumigant | Methyl bromide Chloropicrin.

Table 3—Registrations With Pending Requests for Cancellation Due to Non-Payment of Maintenance Fees
Registration No. | Product name | Chemical name
000400-00069 | B-Nine | Daminozide.
000400-00500 | Floramite Ls | Bifenazate.
000400-00501 | Floramite GN | Bifenazate.
006836-00022 | Lonza Disinfectant Cleaner (30-3) | 1-Decanaminium, N-decyl-N,N-dimethyl-, chloride.
006836-00027 | Lonza Disinfectant Cleaner (47-5) | 1-Decanaminium, N-decyl-N,N-dimethyl-, chloride.
006836-00034 | Lonza Formulation 71-30 | 1-Decanaminium, N-decyl-N,N-dimethyl-, chloride.
|  | 1-Octanaminium, N,N-dimethyl-N-octyl-, chloride.
|  | 1-Decanaminium, N,N-dimethyl-N-octyl-, chloride.
006836-00037 | Lonza Formulation 68-16 | 1-Decanaminium, N-decyl-N,N-dimethyl-, chloride.
|  | 1-Octanaminium, N,N-dimethyl-N-octyl-, chloride.
|  | 1-Decanaminium, N,N-dimethyl-N-octyl-, chloride.
006836-00072 | Lonza Formulation S-37 | 1-Decanaminium, N-decyl-N,N-dimethyl-, chloride.
|  | 1-Octanaminium, N,N-dimethyl-N-octyl-, chloride.
|  | 1-Decanaminium, N,N-dimethyl-N-octyl-, chloride.
|  | Alkyl* dimethyl benzyl ammonium chloride *(50%C14, 40%C12, 10%C16).
006836-00099 | Formulation 100a | Alkyl* dimethyl benzyl ammonium chloride *(50%C14, 40%C12, 10%C16).
006836-00100 | Formulation DC 100b | Alkyl* dimethyl benzyl ammonium chloride *(50%C14, 40%C12, 10%C16).
006836-00101 | Formulation DC 100C | Alkyl* dimethyl benzyl ammonium chloride *(50%C14, 40%C12, 10%C16).
006836-00102 | Formulation 100 D | Alkyl* dimethyl benzyl ammonium chloride *(50%C14, 40%C12, 10%C16).
006836-00105 | Rohm and Haas DC-100 G | Alkyl* dimethyl benzyl ammonium chloride *(50%C14, 40%C12, 10%C16).
006836-00137 | Lonza Formulation S-37f | 1-Decanaminium, N-decyl-N,N-dimethyl-, chloride.
|  | 1-Octanaminium, N,N-dimethyl-N-octyl-, chloride.
|  | 1-Decanaminium, N,N-dimethyl-N-octyl-, chloride.
|  | Alkyl* dimethyl benzyl ammonium chloride *(50%C14, 40%C12, 10%C16).
006836-00141 | Lonza Formulation 70-12f | 1-Decanaminium, N-decyl-N,N-dimethyl-, chloride.
|  | 1-Octanaminium, N,N-dimethyl-N-octyl-, chloride.
|  | 1-Decanaminium, N,N-dimethyl-N-octyl-, chloride.
|  | Alkyl* dimethyl benzyl ammonium chloride *(50%C14, 40%C12, 10%C16).
006836-00158 | Bio Guard Swimming Pool Algicide 28-10 | Alkyl* dimethyl benzyl ammonium chloride *(58%C14, 28%C16, 14%C12).
006836-00178 | Bio-Guard M-38 Disinfectant, Cleaner, Deodorant | Alkyl* dimethyl benzyl ammonium chloride *(58%C14, 28%C16, 14%C12).
006836-00179 | Bio-Guard L-38 | Alkyl* dimethyl benzyl ammonium chloride *(58%C14, 28%C16, 14%C12).
006836-00181 | Lonza Formulation LS-22 | Alkyl* dimethyl benzyl ammonium chloride *(58%C14, 28%C16, 14%C12).
006836-00185 | Bio-Guard L-76 | Alkyl* dimethyl benzyl ammonium chloride *(58%C14, 28%C16, 14%C12).
006836-00215 | Barquat Molluscicide 80 | Alkyl* dimethyl benzyl ammonium chloride *(50%C14, 40%C12, 10%C16).
006836-00222 | Bath Master | 1-Decanaminium, N-decyl-N,N-dimethyl-, chloride.
|  | 1-Octanaminium, N,N-dimethyl-N-octyl-, chloride.
|  | 1-Decanaminium, N,N-dimethyl-N-octyl-, chloride.
|  | Alkyl* dimethyl benzyl ammonium chloride *(50%C14, 40%C12, 10%C16).
006836-00223 | Bath Master (refill) | 1-Decanaminium, N-decyl-N,N-dimethyl-, chloride.
|  | 1-Octanaminium, N,N-dimethyl-N-octyl-, chloride.
|  | 1-Decanaminium, N,N-dimethyl-N-octyl-, chloride.
|  | Alkyl* dimethyl benzyl ammonium chloride *(50%C14, 40%C12, 10%C16).
006836-00224 | Smart AB | 1-Decanaminium, N-decyl-N,N-dimethyl-, chloride.
|  | 1-Octanaminium, N,N-dimethyl-N-octyl-, chloride.
|  | 1-Decanaminium, N,N-dimethyl-N-octyl-, chloride.
|  | Alkyl* dimethyl benzyl ammonium chloride *(50%C14, 40%C12, 10%C16).
006836-00225 | Smart AB Refill | 1-Decanaminium, N-decyl-N,N-dimethyl-, chloride.
|  | 1-Octanaminium, N,N-dimethyl-N-octyl-, chloride.
|  | 1-Decanaminium, N,N-dimethyl-N-octyl-, chloride.
|  | Alkyl* dimethyl benzyl ammonium chloride *(50%C14, 40%C12, 10%C16).
006836-00232 | Bardac 22-50 | 1-Decanaminium, N-decyl-N,N-dimethyl-, chloride.
006836-00246 | Lonza Barquat 1552-5% | Dialkyl* methyl benzyl ammonium chloride *(60%C14, 30%C16, 5%C18, 5%C12).
|  | Alkyl* dimethyl benzyl ammonium chloride *(60%C14, 30%C16, 5%C18, 5%C12).
006836-00260 | Barquat WP 50 | Alkyl* dimethyl benzyl ammonium chloride *(67%C12, 25%C14, 7%C16, 1%C18).
043813-00033 | Bethoguard Technical | Bethoxazin.
043813-00034 | Bethoguard Biocide | Bethoxazin.
043813-00035 | Bethoguard 300 SC | Bethoxazin.
047371-00002 | Formulation HS-64Q | Alkyl* dimethyl benzyl ammonium chloride *(60%C14, 30%C16, 5%C18, 5%C12).
|  | Alkyl* dimethyl ethylbenzyl ammonium chloride *(50%C12, 30%C14, 17%C16, 3%C18).
047371-00007 | Formulation HS-821Q | 1-Decanaminium, N-decyl-N,N-dimethyl-, chloride.
|  | Alkyl* dimethyl benzyl ammonium chloride *(50%C14, 40%C12, 10%C16).
047371-00008 | Formulation HS-256Q | Alkyl* dimethyl benzyl ammonium chloride *(60%C14, 30%C16, 5%C18, 5%C12).
|  | Alkyl* dimethyl ethylbenzyl ammonium chloride *(68%C12, 32%C14).
047371-00009 | Quanto A Germicidal Detergent | Alkyl* dimethyl benzyl ammonium chloride *(60%C14, 30%C16, 5%C18, 5%C12).
|  | Alkyl* dimethyl ethylbenzyl ammonium chloride *(68%C12, 32%C14).
047371-00029 | Formulation Hl-69d | Alkyl* dimethyl benzyl ammonium chloride *(60%C14, 30%C16, 5%C18, 5%C12).
|  | Tributyltin oxide.
047371-00038 | HS-Q Germicidal Concentrate | Alkyl* dimethyl benzyl ammonium chloride *(50%C14, 40%C12, 10%C16).
047371-00041 | Formulation HS-56P | Alkyl* dimethyl ethylbenzyl ammonium chloride *(68%C12, 32%C14).
|  | Alkyl* dimethyl benzyl ammonium chloride *(60%C14, 30%C16, 5%C18, 5%C12).
047371-00048 | Formulation AE-3328 | Alkyl* dimethyl ethylbenzyl ammonium chloride *(68%C12, 32%C14).
|  | Alkyl* dimethyl benzyl ammonium chloride *(60%C14, 30%C16, 5%C18, 5%C12).
047371-00054 | Formulation HS 210-37 | 1-Decanaminium, N-decyl-N,N-dimethyl-, chloride.
047371-00056 | HS-1210 Swimming Pool Algaecide | 1-Decanaminium, N-decyl-N,N-dimethyl-, chloride.
|  | Alkyl* dimethyl benzyl ammonium chloride *(50%C14, 40%C12, 10%C16).
047371-00074 | Pow-256 Powdered Germicidal Detergent | Alkyl* dimethyl ethylbenzyl ammonium chloride *(68%C12, 32%C14).
|  | Alkyl* dimethyl benzyl ammonium chloride *(60%C14, 30%C16, 5%C18, 5%C12).
047371-00077 | Formulation HTA-64 Disinfectant | Alkyl* dimethyl ethylbenzyl ammonium chloride *(68%C12, 32%C14).
|  | Alkyl* dimethyl benzyl ammonium chloride *(60%C14, 30%C16, 5%C18, 5%C12).
047371-00098 | HS-451 Swimming Pool Algaecide | Alkyl* dimethyl benzyl ammonium chloride *(50%C14, 40%C12, 10%C16).
047371-00141 | Formulation HH-652 Q | Alkyl* dimethyl benzyl ammonium chloride *(50%C14, 40%C12, 10%C16).
|  | 1-Decanaminium, N-decyl-N,N-dimethyl-, chloride.
047371-00142 | Formulation HTA-96 | Alkyl* dimethyl ethylbenzyl ammonium chloride *(68%C12, 32%C14).
|  | Alkyl* dimethyl benzyl ammonium chloride *(60%C14, 30%C16, 5%C18, 5%C12).
047371-00143 | HS-96 Disinfectant Bowl Cleaner | Alkyl* dimethyl ethylbenzyl ammonium chloride *(50%C12, 30%C14, 17%C16, 3%C18).
|  | Alkyl* dimethyl benzyl ammonium chloride *(60%C14, 30%C16, 5%C18, 5%C12).
047371-00145 | HS-210 Laundry Mildew & Bacteriostat (10%) | 1-Decanaminium, N-decyl-N,N-dimethyl-, chloride.
047371-00150 | TB-910 Disinfectant Bowl Cleaner & Deodorant | Hydrochloric acid. 1-Decanaminium, N-decyl-N,N-dimethyl-, chloride.
047371-00155 | Formulation RTU-6075a | Alkyl* dimethyl ethylbenzyl ammonium chloride *(50%C12, 30%C14, 17%C16, 3%C18).
|  | Alkyl* dimethyl benzyl ammonium chloride *(60%C14, 30%C16, 5%C18, 5%C12).
047371-00157 | Formulation RTU-6075 (la). | Alkyl* dimethyl ethylbenzyl ammonium chloride *(50%C12, 30%C14, 17%C16, 3%C18).
|  | Alkyl* dimethyl benzyl ammonium chloride *(60%C14, 30%C16, 5%C18, 5%C12).
047371-00165 | HS-451 Waterbed Microbiocide | Alkyl* dimethyl benzyl ammonium chloride *(50%C14, 40%C12, 10%C16).
047371-00172 | TB-A165 Disinfectant Bowl Cleaner | Hydrochloric acid.
|  | 1-Decanaminium, N-decyl-N,N-dimethyl-, chloride.
047371-00184 | HS-210 Sap Stain Control | 1-Decanaminium, N-decyl-N,N-dimethyl-, chloride.
073049-00360 | Tralex FA 3.75% EC | Tralomethrin.
073049-00401 | Tralex MUP | Tralomethrin.
073049-00459 | Ultra TEC DS Yard and Patio Spray | S-Bioallethrin Deltamethrin.
CA780167 | Comite Agricultural Miticide | Propargite.
CA940008 | Omite-30WS Agricultural Miticide | Propargite.
DE040003 | Acramite 50ws | Bifenazate.
ID070010 | Acramite-4sc | Bifenazate.
ID070013 | Acramite-4SC | Bifenazate.
ID910015 | Comite Agricultural Miticide | Propargite.
ID940011 | Comite Agricultural Miticide | Propargite.
ID970015 | Comite Agricultural Miticide | Propargite.
KS950001 | Comite II | Propargite.
MT900001 | Comite Agricultural Miticide | Propargite.
ND050005 | Dimilin 2l | Diflubenzuron.
NV870009 | Comite Agricultural Miticide | Propargite.
OR080010 | Comite Agricultural Miticide | Propargite.
OR080015 | Comite | Propargite.
OR080029 | Acramite-4SC | Bifenazate.
OR080030 | Acramite-4SC | Bifenazate.
SC910003 | Comite Agricultural Miticide | Propargite.
TN080006 | Temprano | Abamectin.
TX940006 | Comite II | Propargite.
UT960006 | Comite Agricultural Miticide | Propargite.
WA040020 | Comite—Potato SLN | Propargite.
WA070009 | Acramite-4SC | Bifenazate.
WA070011 | Acramite-4SC | Bifenazate.
WA870029 | Comite Agricultural Miticide | Propargite.
WA910033 | Comite Agricultural Miticide | Propargite.

Table 4 of this unit includes the names and addresses of record for all registrants of the products in Tables 1, 2, and 3 of this unit, in sequence by EPA company number. This number corresponds to the first part of the EPA registration numbers of the products listed in this unit.

Table 4—Registrants Requesting Voluntary Cancellation
EPA Company No. | Company name and address
56 | Eaton JT & Company, Inc., 1393 E. Highland Rd., Twinsburg, OH 44087.
400 | Chemtura Corp. Attn: Crop Registration, 199 Benson Rd., Middlebury, CT 06749.
1020 | Chemetall US, Inc., 675 Central Avenue, New Providence, NJ 07974-0007.
1022 | IBC Manufacturing Co., 416 E. Brooks Rd., Memphis, TN 38109.
1448 | Buckman Laboratories Inc., 1256 North Mclean Blvd., Memphis, TN 38108.
3377 | Albermarle Corporation, 451 Florida Street, Baton Rouge, LA 70801-1765.
5481 | Amvac Chemical Corporation, 4695 MacArthur Court, Suite 1250, Newport Beach, CA 92660.
5785 | Great Lakes Chemical Corporation Agent: Chemtura Corporation, 1801 Highway 52, West Lafayette, IN 47906.
6836 | Lonza Inc., 90 Boroline Rd., Allendale, NJ 07401.
7792 | Roebic Laboratories, Inc., Agent: Landis International, Inc., 3185 Madison Highway, P.O. Box 5126, Valdosta, GA 31605-5126.
8622 | ICL-IP America, Inc., 95 MacCorkle Avenue, Southwest, South Charleston, WV 25303.
9688 | Chemsico, Div. of United Industries Corp., P.O. Box 142642, St. Louis, MO 63114-0642.
43813 | Janssen PMP Janssen Pharmaceutica NV, 1125 Trenton-Harbourton Road, Titusville, NJ 08560-0200.
47000 | Chem-Tech, LTD., 4515 Fleur Dr. #303, Des Moines, IA 50321.
47371 | H & S Chemicals Division, c/o Lonza Inc., 90 Boroline Road, Allendale, NJ 07401.
48273 | Marman USA Inc., Agent: Nufarm Inc., 150 Harvester Drive, Suite 200, Burr Ridge, IL 60527.
62719 | Dow Agrosciences LLC, 9330 Zionsville Rd 308/2E, Indianapolis, IN 46268-1054.
73049 | Valent Biosciences Corp., 870 Technology Way, Suite 100, Libertyville, IL 60048-6316.
CA780167, CA940008, DE040003, ID070010, ID070013, ID910015, ID940011, ID970015, KS950001, MT900001, ND050005, NV870009, OR080010, OR080015, OR080029, OR080030, SC910003, TN080006, TX940006, UT960006, WA040020, WA070009, WA070011, WA870029, WA910033 | Chemtura Corp. Attn: Crop Registration, 199 Benson Road (2-5), Middlebury, CT 06749.

III. What is the Agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 4 of Unit II. have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Upon cancellation of the products identified in Tables 1, 2, and 3 of Unit II, the Agency will allow existing stocks provisions as follows:

A. Registrations Listed in Table 1 of Unit II Except Nos. 000056-00056 and 000056-00069

The Agency anticipates allowing registrants to sell and distribute existing stocks of these products for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

B. Registration Nos. 000056-00056 and 000056-00069

All sale or distribution of existing stocks by the registrants is prohibited after issuance of the cancellation order, except for export consistent with FIFRA section 17 or for proper disposal. Persons other than the registrant may continue to sell and/or use existing stocks of cancelled products until such stocks are exhausted, provided that such use is consistent with the terms of the previously approved labeling on, or that accompanied, the cancelled products. If the Agency determines that the final cancellation order should contain existing stocks provisions different than the ones just described, the Agency will publish the cancellation order in the Federal Register.

C. Registrations Listed in Table 2 of Unit II

All sale or distribution of existing stocks by the registrants is prohibited after publication of the cancellation order, unless that sale or distribution is solely for the purpose of facilitating disposal or export of the products.

Existing stocks may be sold and distributed by persons other than the registrant for 120 days after the date of publication of the cancellation order.

Existing stocks may be used until exhausted, provided that such use complies with the EPA-approved label and labeling of the products.

D. Registrations Listed in Table 3 of Unit II

The effective date of cancellation will be the date of the cancellation order. The Agency anticipates allowing registrants to sell and distribute existing stocks of these products until January 15, 2012, 1 year after the date on which the maintenance fee was due. Thereafter, registrants will be prohibited from selling or distributing the pesticides identified in Table 2 of Unit II., except for export consistent with FIFRA section 17 or for proper disposal. Persons other than registrants will generally be allowed to sell, distribute, or use existing stocks until such stocks are exhausted, provided that such sale, distribution, or use is consistent with the terms of the previously approved labeling on, or that accompanied, the canceled products.

List of Subjects

Environmental protection, Pesticides and pests.

Dated: April 22, 2011.
Richard P. Keigwin, Jr.,
Director, Pesticide Re-evaluation Division, Office of Pesticide Programs.

[FR Doc. 2011-10709 Filed 5-3-11; 8:45 am]

BILLING CODE 6560-50-P